DEPARTMENT OF AGRICULTURE

Forest Service

Land Between the Lakes Advisory Board

AGENCY: Forest Service, Agriculture (USDA).

ACTION: Notice of meeting.

SUMMARY: The Land Between the Lakes Advisory Board will hold a public meeting according to the details shown below. The committee is authorized under the Charter for the Land Between the Lakes Advisory Board, established pursuant to Section 460 of the Land Between the Lakes Protection Act of 1998 and operates in compliance with the Federal Advisory Committee Act as amended. The purpose of the committee is to advise the Secretary of Agriculture on (1) means of promoting public participation for the Land and Resource Management Plan; and (2) environmental education. General information can be found at the following website: https://landbetweenthelakes.us/about/working-together/.

DATES: The meeting will be held on October 19, 2022, from 9 a.m.- 4 p.m., Central Time. All committee meetings are subject to cancellation. For status of the meeting prior to attendance, please contact the person listed under FOR FURTHER INFORMATION CONTACT.

ADDRESSES: This meeting is open to the public and will be held at the Land Between the Lakes National Recreation Area Administration Building, 100 Van Morgan Drive, Golden Pond, Kentucky, 42211. The public may also join virtually via telephone and/or video conference. Virtual meeting participation details can be found on the website listed under SUMMARY or by contacting the person listed under FOR FURTHER INFORMATION CONTACT.

Written comments may be submitted as described under SUPPLEMENTARY INFORMATION. All comments, including names and addresses when provided, are placed in the record and are available for public inspection and copying. The public may inspect comments received upon request.

FOR FURTHER INFORMATION CONTACT: Leisa Cook, Designated Federal Officer (DFO), by phone at 270-924-2001 or email at leisa.cook@usda.gov or Christine Bombard, Committee Coordinator at 270-924-2002 or email at christine.bombard@usda.gov. Individuals who use telecommunication devices for the deaf and hard of hearing (TDD) may call the Federal Relay Service (FRS) at 1-800-877-8339, 24 hours a day, every day of the year, including holidays.

SUPPLEMENTARY INFORMATION: The meeting agenda will include:

1. Update the By-laws

2. Discussion of Fiscal Year 2022 Accomplishments

3. Provide an Overview of proposed Fiscal Year 2023 Projects

The meeting is open to the public. The agenda will include time for people to make oral statements of three minutes or less. Individuals wishing to make an oral statement should make a request in writing at least three days before the meeting to be scheduled on the agenda. Anyone who would like to bring related matters to the attention of the committee may file written statements with the committee staff before or after the meeting. Written comments and requests for time to make oral comments must be sent to Christine Bombard, 100 Van Morgan Drive, Golden Pond, Kentucky, 42211; or by email to SM.FS.LBL_AdBoard@usda.gov.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at 1-202-720-2600 (voice and TTY) or contact USDA through the Federal Relay Service at 1-800-877-8339. Additionally, program information may be made available in languages other than English.

Equal opportunity practices in accordance with USDA's policies will be followed in all appointments to the Committee. To ensure that the recommendations of the Committee have taken into account the needs of the diverse groups served by USDA, membership shall include to the extent possible, individuals with demonstrated ability to represent minorities, women, and person with disabilities. USDA is an equal opportunity provider, employer, and lender.

Dated: September 22, 2022.
Cikena Reid,
USDA Committee Management Officer.

[FR Doc. 2022-20917 Filed 9-27-22; 8:45 am]

BILLING CODE 3411-15-P